DEPARTMENT OF ENERGY

Federal Energy Regulatory Commission

Combined Notice of Filings #1

Take notice that the Commission received the following electric corporate filings:

Docket Numbers: EC20-36-000.

Applicants: Tropico, LLC, Nicolis, LLC, Gulf Coast Solar Center I, LLC, Gulf Coast Solar Center II, LLC, Gulf Coast Solar Center III, LLC, Avalon Solar Partners, LLC.

Description: Application for Authorization Under Section 203 of the Federal Power Act, et al. of Tropico, LLC, et al.

Filed Date: 2/11/20.

Accession Number: 20200211-5105.

Comments Due: 5 p.m. ET 3/3/20.

Take notice that the Commission received the following electric rate filings:

Docket Numbers: ER10-1355-008.

Applicants: Southern California Edison Company.

Description: Errata to January 30, 2020 Notification of Change in Status of Southern California Edison Company.

Filed Date: 2/11/20.

Accession Number: 20200211-5115.

Comments Due: 5 p.m. ET 3/3/20.

Docket Numbers: ER12-1933-011.

Applicants: Interstate Power and Light Company.

Description: Notification of Change in Status of Interstate Power and Light Company.

Filed Date: 2/10/20.

Accession Number: 20200210-5066.

Comments Due: 5 p.m. ET 3/2/20.

Docket Numbers: ER19-470-004.

Applicants: ISO New England Inc., New England Power Pool Participants Committee.

Description: Compliance filing: Revisions in Compliance with the Order No. 841 Order on Compliance to be effective 12/3/2019.

Filed Date: 2/10/20.

Accession Number: 20200210-5118.

Comments Due: 5 p.m. ET 3/2/20.

Docket Numbers: ER20-969-000.

Applicants: Energia Sierra Juarez U.S. Transmission, LLC.

Description: § 205(d) Rate Filing: Filing of Amended & Restated Facilities Agreement and Request for Waivers to be effective 6/1/2020.

Filed Date: 2/10/20.

Accession Number: 20200210-5117.

Comments Due: 5 p.m. ET 3/2/20.

Docket Numbers: ER20-970-000.

Applicants: Tri-State Generation and Transmission Association, Inc.

Description: § 205(d) Rate Filing: Filing of Rate Schedules FERC No. 265 and No. 266 to be effective 9/3/2019.

Filed Date: 2/10/20.

Accession Number: 20200210-5124.

Comments Due: 5 p.m. ET 3/2/20.

Docket Numbers: ER20-971-000.

Applicants: Midcontinent Independent System Operator, Inc.

Description: § 205(d) Rate Filing: 2020-02-11_SA 3421 MEC-Heartland Divide Wind II GIA (J583) to be effective 1/28/2020.

Filed Date: 2/11/20.

Accession Number: 20200211-5060.

Comments Due: 5 p.m. ET 3/3/20.

Docket Numbers: ER20-972-000.

Applicants: Midcontinent Independent System Operator, Inc.

Description: § 205(d) Rate Filing: 2020-02-11_SA 3422 ITC-Three Waters Wind Farm GIA (J720) to be effective 1/28/2020.

Filed Date: 2/11/20.

Accession Number: 20200211-5063.

Comments Due: 5 p.m. ET 3/3/20.

Docket Numbers: ER20-973-000.

Applicants: ISO New England Inc.

Description: ISO New England Inc. submits Fourth Quarter 2019 Capital Budget Report.

Filed Date: 2/11/20.

Accession Number: 20200211-5065.

Comments Due: 5 p.m. ET 3/3/20.

Docket Numbers: ER20-974-000.

Applicants: PJM Interconnection, L.L.C.

Description: Tariff Cancellation: Notice of Cancellation of ICSA, SA No. 3838; Queue No. X4-048/Y2-089/AA1-077 to be effective 1/31/2020.

Filed Date: 2/11/20.

Accession Number: 20200211-5116.

Comments Due: 5 p.m. ET 3/3/20.

Take notice that the Commission received the following electric reliability filings:

Docket Numbers: RD20-3-000.

Applicants: North American Electric Reliability Corporation.

Description: Application of the North American Electric Reliability Corporation for approval of proposed Reliability Standard TPL-007-4.

Filed Date: 2/7/20.

Accession Number: 20200207-5203.

Comments Due: 5 p.m. ET 3/9/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 11, 2020.
Nathaniel J. Davis, Sr.,
Deputy Secretary.

[FR Doc. 2020-03187 Filed 2-18-20; 8:45 am]

BILLING CODE 6717-01-P